DEPARTMENT OF ENERGY

Federal Energy Regulatory Commission

Combined Notice of Filings #1

June 24, 2008.

Take notice that the Commission has received the following Natural Gas Pipeline Rate and Refund Report filings:

Docket Numbers: RP00-426-036.

Applicants: Texas Gas Transmission, LLC.

Description: Texas Gas Transmission, LLC submits Fifth Revised Sheet 52 and 52A et al. to FERC Gas Tariff, Second Revised Volume 1.

Filed Date: 06/20/2008.

Accession Number: 20080623-0064.

Comment Date: 5 p.m. Eastern Time on Wednesday, July 02, 2008.

Docket Numbers: RP08-123-002.

Applicants: Central Kentucky Transmission Corporation.

Description: Central Kentucky Transmission Corporation submits First Revised Sheet 35 et al. to FERC Gas Tariff, Original Volume 1.

Filed Date: 06/19/2008.

Accession Number: 20080620-0039.

Comment Date: 5 p.m. Eastern Time on Tuesday, July 01, 2008.

Docket Numbers: RP08-125-002.

Applicants: Crossroads Pipeline Company.

Description: Crossroads Pipeline Company submits Second Revised Sheet 50 et al. to FERC Gas Tariff, First Revised Volume 1.

Filed Date: 06/19/2008.

Accession Number: 20080620-0038.

Comment Date: 5 p.m. Eastern Time on Tuesday, July 01, 2008.

Docket Numbers: RP08-362-001.

Applicants: Cheyenne Plains Gas Pipeline Company LLC.

Description: Cheyenne Plains Gas Pipeline Company, LLC submits Substitute First Revised Sheet 311 to its FERC Gas Tariff, Original Volume 12.

Filed Date: 06/18/2008.

Accession Number: 20080618-0129.

Comment Date: 5 p.m. Eastern Time on Monday, June 30, 2008.

Docket Numbers: RP08-391-001.

Applicants: Sabine Pipe Line LLC.

Description: Sabine Pipe Line, LLC submits Substitute First Revised Sheet 235 to FERC Gas Tariff, Original Volume 1, to be effective 7/1/08.

Filed Date: 06/19/2008.

Accession Number: 20080623-0021.

Comment Date: 5 p.m. Eastern Time on Tuesday, July 01, 2008.

Docket Numbers: RP08-392-001.

Applicants: Texas Gas Transmission, LLC.

Description: Texas Gas Transmission, LLC submits their request to amend the 5/30/08 filing of proposed tariff sheets to Third Revised Volume 1 by modifying its effective date.

Filed Date: 06/17/2008.

Accession Number: 20080618-0081.

Comment Date: 5 p.m. Eastern Time on Monday, June 30, 2008.

Docket Numbers: RP08-413-000.

Applicants: Texas Gas Transmission, LLC.

Description: Texas Gas Transmission, LLC submits Sixth Revised Volume of its FERC Gas Tariff, Second Revised Volume 1, to become effective 8/1/08.

Filed Date: 06/18/2008.

Accession Number: 20080618-0128.

Comment Date: 5 p.m. Eastern Time on Monday, June 30, 2008.

Docket Numbers: RP08-415-000.

Applicants: Questar Pipeline Company.

Description: Questar Pipeline Co submits Fifth Revised Sheet 47A to FERC Gas Tariff, First Revised Volume 1, effective 7/21/08.

Filed Date: 06/20/2008.

Accession Number: 20080620-0112.

Comment Date: 5 p.m. Eastern Time on Wednesday, July 02, 2008.

Docket Numbers: RP08-416-000.

Applicants: Iroquois Gas Transmission System, L.P.

Description: Report of Measurement Variance/Fuel Use Factors re Iroquois Gas Transmission System.

Filed Date: 06/20/2008.

Accession Number: 20080620-5048.

Comment Date: 5 p.m. Eastern Time on Wednesday, July 02, 2008.

Docket Numbers: RP08-417-000.

Applicants: Natural Gas Pipeline Company of America.

Description: Natural Gas Pipeline Company of America LLC submits a Petition for Temporary Waiver of Tariff Provisions and Request for Expedited Action.

Filed Date: 06/20/2008.

Accession Number: 20080620-0130.

Comment Date: 5 p.m. Eastern Time on Wednesday, July 02, 2008.

Docket Numbers: RP08-418-000.

Applicants: Cheyenne Plains Gas Pipeline Company LLC.

Description: Cheyenne Plains Gas Pipeline Company, LLC submits Ninth Revised Sheet 1 to its Gas Tariff, Original Volume 1, to become effective 7/21/08.

Filed Date: 06/20/2008.

Accession Number: 20080623-0063.

Comment Date: 5 p.m. Eastern Time on Wednesday, July 02, 2008.

Docket Numbers: RP08-419-000.

Applicants: Cheyenne Plains Gas Pipeline Company LLC.

Description: Cheyenne Plains Gas Pipeline Co, LLC submits First Revised Sheet 285 et al. to FERC Gas Tariff, Original Volume 1.

Filed Date: 06/20/2008.

Accession Number: 20080623-0062.

Comment Date: 5 p.m. Eastern Time on Wednesday, July 02, 2008.

Docket Numbers: CP06-64-002.

Applicants: Central New York Oil and Gas Company, LLC.

Description: Central New York Oil and Gas Company, LLD submits First Revised Sheet 1 et al. to FERC Gas Tariff, Original Volume No. 1.

Filed Date: 06/20/2008.

Accession Number: 20080623-0061.

Comment Date: 5 p.m. Eastern Time on Monday, July 7, 2008.

Docket Numbers: CP07-44-003; CP07-45-002.

Applicants: Southeast Supply Header, LLC.

Description: Southeast Supply Header, LLC submits second application for amendment to certificate of public convenience.

Filed Date: 06/20/2008.

Accession Number: 20080623-0060.

Comment Date: 5 p.m. Eastern Time on Monday, July 7, 2008.

Docket Numbers: CP08-25-001.

Applicants: Transcontinental Gas Pipe Line Corporation.

Description: Transcontinental Gas Pipe Line Corporation submits Twenty-Seventh Revised Sheet No. 1, et al., to FERC Gas Tariff, Original Volume No. 2.

Filed Date: 06/18/2008.

Accession Number: 20080623-0023.

Comment Date: 5 p.m. Eastern Time on Monday, July 7, 2008.

Docket Numbers: CP08-406-001.

Applicants: Transcontinental Gas Pipe Line Corporation.

Description: Transcontinental Gas Pipe Line Corporation submits Nineteenth Revised Sheet No. 1A, et al., to its FERC Gas Tariff, Original Volume No. 2.

Filed Date: 06/18/2008.

Accession Number: 20080623-0022.

Comment Date: 5 p.m. Eastern Time on Monday, July 7, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-14789 Filed 6-27-08; 8:45 am]

BILLING CODE 6717-01-P